DEPARTMENT OF DEFENSE

Department of the Navy

Notice of Intent To Prepare an Environmental Impact Statement for Access Between the Laurelwood Housing Area and an Adjacent State Primary or Secondary Road at Naval Weapons Station Earle, Colts Neck, NJ and To Announce a Public Scoping Meeting

AGENCY: Department of the Navy, DoD.

ACTION: Notice.

SUMMARY: Pursuant to section (102)(2)(c) of the National Environmental Policy Act (NEPA) of 1969, and the regulations implemented by the Council on Environmental Quality (40 CFR Parts 1500-1508), the Department of the Navy (Navy) announces its intent to prepare an Environmental Impact Statement (EIS) to evaluate the potential environmental consequences of providing access between the Laurelwood housing area at Naval Weapons Station (NWS) Earle and an adjacent state primary or secondary road. The requirement for this access in 2010 is a stipulation within the lease agreement between the Navy and the developer of Laurelwood. This developer may construct necessary road improvements to obtain access and rent any housing units to the general public through the year 2040.

Dates and Addresses: Public scoping will be conducted in the form of an open-house style meeting to be held in Monmouth County, New Jersey to receive written comments on environmental concerns that should be addressed in the EIS. The public scoping meeting will be held on November 27, 2007, from 4 p.m. and 8 p.m., at Brookdale Community College, 765 Newman Springs Road, Lincroft, New Jersey.

FOR FURTHER INFORMATION CONTACT: Mr. Patrick Fisher, Naval Weapons Station Earle, Public Affairs Officer, 201 Highway 34 South, Building C-2, Colts Neck, New Jersey 07722; telephone: 732-866-2171; e-mail: patrick.l.fisher@navy.mil.

SUPPLEMENTARY INFORMATION: The proposed action is to provide unimpeded access in the year 2010 to the developer of the Laurelwood housing area across a portion of mainside NWS Earle connecting the Laurelwood housing area with a state primary or secondary road. The requirement for this access in 2010 is part of an existing lease agreement between the Navy and the developer of Laurelwood.

In 1988 the Navy contracted with a developer to construct, own, and operate 300 military family housing units at NWS Earle, now known as the Laurelwood housing area. A 52-year lease agreement for the underlying land was executed between the Navy and the developer which included an in-lease and out-lease period. During the in-lease period, which runs from 1988 until 2010, the Navy guarantees rent payments to the developer for the occupancy of all 300 Laurelwood units. Only military and their dependents are allowed to occupy these housing units during the in-lease period. During the out-lease period of 2010 until 2040 the developer may rent the units to the general public. However, the lease requires that the Navy provide “reasonable access” between the Laurelwood housing area and an adjacent State, primary, or secondary road. The lease agreement defines reasonable access as being on a paved road, constructed, operated, and maintained by the developer at its own cost. The Navy may satisfy this obligation by either (a) providing unimpeded access along existing roads of the installation or (b) providing an easement for alternate access adequate to allow the developer to construct a road from an adjacent primary or secondary road to Laurelwood that will provide unimpeded access. Road construction would be subject to Federal, State and local laws and regulations. While the developer must pay for construction of a new road and necessary improvements, the Navy is required to finance the construction of any road enhancements necessary to meet their security or operational requirements (e.g., security fencing, gates). In addition, the Navy is required to obtain all necessary permits for road construction. In 2040, the lease agreement expires and the developer is obligated to demolish the 300 housing units.

During development of the EIS, the Navy will evaluate the no-action alternative and several alternative road alignments which will provide unimpeded access from the Laurelwood housing area to a State primary or secondary road without adversely impacting NWS Earle security or operational/mission capability.

In addition to the natural and cultural environment located along the various road alignments, the Navy will evaluate the potential impacts to local school systems, base security, community services, and traffic impacts at proposed intersections to state roads. Since NWS Earle was acquired under exclusive federal jurisdiction, police, fire, and rescue services would continue to be provided by the Navy under the proposed action.

The Navy is initiating the scoping process to identify community concerns and local issues to be addressed in this EIS. Navy representatives will be available at the public open-house scoping meeting to receive comments from the public regarding issues of concern. Federal, State, and local agencies and interested individuals are encouraged to take this opportunity to identify concerns that should be addressed during the preparation of the EIS. Agencies and the public are also invited and encouraged to provide written comments on scoping issues in addition to, or in lieu of, comments provided at the open-house meeting. Written comments must be postmarked by December 14, 2007 and should be mailed to: Naval Facilities Engineering Command, Atlantic, Attn: Code EV21LR, 6506 Hampton Boulevard, Norfolk, Virginia 23508. Comments can also be submitted no later than December 14, 2007 via the project Web site: http://www.laurelwoodeis.com.

Dated: October 31, 2007.
T.M. Cruz,
Lieutenant, Judge Advocate General's Corps, U.S. Navy, Federal Register Liaison Officer.

[FR Doc. E7-22039 Filed 11-8-07; 8:45 am]

BILLING CODE 3810-FF-P